DEPARTMENT OF TRANSPORTATION

National Highway Traffic Safety Administration

Petition for Exemption From the Federal Motor Vehicle Theft Prevention Standard; Ford Motor Company

AGENCY: National Highway Traffic Safety Administration (NHTSA), Department of Transportation (DOT).

ACTION: Grant of petition for exemption.

SUMMARY: This document grants in full the Ford Motor Company's (Ford) petition for exemption of the EcoSport vehicle line in accordance with 49 CFR part 543, Exemption from the Theft Prevention Standard. This petition is granted because the agency has determined that the antitheft device to be placed on the line as standard equipment is likely to be as effective in reducing and deterring motor vehicle theft as compliance with the parts-marking requirements of 49 CFR part 541, Federal Motor Vehicle Theft Prevention Standard (Theft Prevention Standard). Ford also requested confidential treatment for specific information in its petition. While official notification granting or denying its request for confidential treatment will be addressed by separate letter, no confidential information provided for purposes of this document has been disclosed.

DATES: The exemption granted by this notice is effective beginning with the 2018 model year (MY).

FOR FURTHER INFORMATION CONTACT: Ms. Carlita Ballard, Office of International Policy, Fuel Economy and Consumer Programs, National Highway Traffic Safety Administration, 1200 New Jersey Avenue SE., West Building, Room W43-439, Washington, DC 20590. Ms. Ballard's telephone number is (202) 366-5222. Her fax number is (202) 493-2990.

SUPPLEMENTARY INFORMATION: In a petition dated September 20, 2016, Ford requested an exemption from the parts-marking requirements of the Theft Prevention Standard for the EcoSport vehicle line beginning with MY 2018. The petition requested an exemption from parts-marking pursuant to 49 CFR part 543, Exemption from Vehicle Theft Prevention Standard, based on the installation of an antitheft device as standard equipment for the entire vehicle line.

Under 49 CFR part 543.5(a), a manufacturer may petition NHTSA to grant an exemption for one vehicle line per model year. In its petition, Ford provided a detailed description and diagram of the identity, design, and location of the components of the antitheft device for its EcoSport vehicle line. Ford stated that its MY 2018 EcoSport vehicle line will be installed with a passive electronic immobilizer device using encrypted transponder technology as standard equipment on the entire vehicle line. Along with a passive immobilizer device, Ford stated that the EcoSport vehicle line will be equipped with one of two systems, the SecuriLock/Passive Anti-Theft Electronic Engine Immobilizer System (SecuriLock/PATS) or the Intelligent Access with Push Button Start (IAwPB) Electronic Engine Immobilizer System. Ford stated that the SecuriLock/PATS system will be installed on all EcoSport trim levels except its SE and Titanium packages which will be installed with the IAwPB system. Specifically, Ford stated that key components of the SecuriLock/PATS system will include an immobilizer, an electronic transponder key, powertrain control module/transmission control module (PCM/TCM), transceiver module, ignition lock and instrument cluster. Key components of the IAwPB system will include a passive immobilizer, electronic key fob, remote function actuator/body control module (RFA/BCM), keyless vehicle module (KVM), and powertrain control module. Ford further stated that its platinum trim-packaged vehicles will also offer a separate perimeter alarm system as standard equipment. The perimeter alarm system activates a visible and audible alarm if unauthorized access is attempted.

Ford's submission is considered a complete petition as required by 49 CFR 543.7, in that it meets the general requirements contained in § 543.5 and the specific content requirements of § 543.6.

In addressing the specific content requirements of 543.6, Ford provided information on the reliability and durability of its proposed device. To ensure reliability and durability of the antitheft device, Ford conducted tests based on its own specified standards. Ford provided a detailed list of the tests conducted and believes that the antitheft device is reliable and durable since it complied with its own specified requirements for each test. Ford also stated that it believes its antitheft device is reliable and durable because it has no moving parts which reduces the chance for component deterioration or wear resulting from normal use. Additionally, Ford stated that incorporation of several other features in the antitheft device further support reliability and durability. Other features incorporated in the antitheft device include: Encrypted communication between the transponder, the instrument cluster and the PCM/TCM; numerous code combinations; inability to mechanically override the antitheft device to start the vehicle; and inability to start the vehicle by attempting to slam-pull the ignition lock cylinder or short the “Start/Stop” button.

Ford stated that activation of the antitheft immobilizer device occurs when the ignition key is turned to the “Start” position on the SecuriLock/PATS system or the “Start/Stop” button is pressed on the IAwPB system. The transceiver module then reads the ignition keycode and transmits an encrypted message from the keycode to the instrument cluster. Once the key is validated, starting of the engine is authorized by sending a separate encrypted message to the powertrain control module/transmission control module (PCM/TCM). Deactivation of the SecuriLock/PATS system and the IAwPB system occurs automatically each time an engine start sequence occurs. Ford stated that with both systems, the powertrain will function only if the keycode matches the unique identification keycode that was previously programmed into the PCM/TCM or the RFA/BCM. With the IAwPB system, Ford stated that if the programmed key is not present in the vehicle, the engine will not start. Ford also stated that the IAwPB system's BCM and PCM share security when first installed during vehicle assembly forming matched modules, and if separated from each other, the matched modules will not function in any other vehicles.

Ford stated that its MY 2018 EcoSport vehicle line will also be equipped with several other standard antitheft features common to Ford vehicles (i.e., hood release, counterfeit resistant VIN labels, secondary VINs inscribed on the vehicle body, and an exterior key lock/pad that is located on the driver door to limit cabin access).

Ford compared the antitheft immobilizer device proposed for its vehicle line to other antitheft devices which NHTSA has determined to be as effective in reducing and deterring motor vehicle theft as would compliance with the parts-marking requirements. Ford stated that it believes that the standard installation of its antitheft immobilizer device using either the SecuriLock/PATS or the IAwPB system would be an effective deterrent against vehicle theft.

In support of its belief that its antitheft device will be as or more effective in reducing and deterring motor vehicle theft than the parts-marking requirements, Ford stated that it installed the SecuriLock/PATS immobilizer device as standard equipment on all of its MY 1996 Ford Mustang GT and Cobra vehicle lines, as well as other selected models including the Ford Mustang vehicle line. Ford also referenced the National Insurance Crime Bureau (NICB) theft statistics which showed that there was a 70% reduction in the theft rate for the MY 1997 Ford Mustang vehicle line installed with the SecuriLock/PATS immobilizer device as compared to the theft rate for its MY 1995 Ford Mustang vehicle line not installed with the antitheft immobilizer device.

Ford also reported that beginning with MY 2008, the SecuriLock/PATS immobilizer device was installed as standard equipment on all of its North American Ford, Lincoln and Mercury vehicles except for the F-series Super Duty, Econoline and Crown Victoria Police Interceptor vehicles. Ford further stated that the SecuriLock/PATS system with its standard equipment immobilizer device is similar in design and implementation to the antitheft device offered on the Ford Fusion vehicle line starting with the 2012 model year. Ford was granted an exemption for the Fusion vehicle line on January 11, 2011 by NHTSA (See 71 FR 7824) beginning with its MY 2006 vehicles. The theft rate for the MY 2012 Ford Fusion using an average of three MYs' data (2011-2013) is 1.2712. Ford also referenced theft rate data published by NHTSA showing that theft rates for the Ford Escape vehicle line have been gradually decreasing and stated that it is currently very close to the theft rate for all vehicles published for MY's 2008-2013. Ford stated that since its SecuriLock/PATS or IAwPB immobilization device will be the primary theft deterrents on Ford EcoSport vehicles, it believes that the very low theft rates are likely to continue or improve in the future. The theft rate for the MY 2013 Ford Escape using an average of three MYs' data (2011-2013) is 0.7764. There is no current theft rate data available for Ford's new EcoSport vehicle line.

The agency agrees that Ford's antitheft device is substantially similar to antitheft devices installed on other vehicle lines for which the agency has already granted exemptions.

Based on the supporting evidence submitted by Ford about its antitheft device, the agency believes that the antitheft device for the EcoSport vehicle line is likely to be as effective in reducing and deterring motor vehicle theft as compliance with the parts-marking requirements of the Theft Prevention Standard (49 CFR part 541). The agency concludes that the antitheft device will provide four of the five types of performance listed in § 543.6(a)(3): Promoting activation; preventing defeat or circumvention of the device by unauthorized persons; preventing operation of the vehicle by unauthorized entrants; and ensuring the reliability and durability of the device.

Pursuant to 49 U.S.C. 33106 and 49 CFR 543.7 (b), the agency grants a petition for exemption from the parts-marking requirements of Part 541 either in whole or in part, if it determines that, based upon substantial evidence, the standard equipment antitheft device is likely to be as effective in reducing and deterring motor vehicle theft as compliance with the parts-marking requirements of Part 541. The agency finds that Ford has provided adequate reasons for its belief that the antitheft device for the Ford EcoSport vehicle line is likely to be as effective in reducing and deterring motor vehicle theft as compliance with the parts-marking requirements of the Theft Prevention Standard (49 CFR part 541). This conclusion is based on the information Ford provided about its antitheft device.

For the foregoing reasons, the agency hereby grants in full Ford's petition for exemption for the EcoSport vehicle line from the parts-marking requirements of 49 CFR part 541. The agency notes that 49 CFR part 541, Appendix A-1, identifies those lines that are exempted from the Theft Prevention Standard for a given model year. 49 CFR part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Ford decides not to use the exemption for this line, it must formally notify the agency. If such a decision is made, the line must be fully marked according to the requirements under 49 CFR parts 541.5 and 541.6 (marking of major component parts and replacement parts).

NHTSA notes that if Ford wishes in the future to modify the immobilizer device on which this exemption is based, the company may have to submit a petition to modify the exemption.

Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Issued in Washington, DC, under authority delegated in 49 CFR part 1.95.
Raymond R. Posten,
Associate Administrator for Rulemaking.

[FR Doc. 2017-09511 Filed 5-10-17; 8:45 am]

BILLING CODE 4910-59-P